DEPARTMENT OF ENERGY

Federal Energy Regulatory Commission

[Docket No. RP06-298-000]

Public Service Commission of New York, Pennsylvania Public Utility Commission, and Pennsylvania Office of Consumer Advocate, Complainants v. National Fuel Gas Supply Corporation, Respondent; Notice of Complaint

April 10, 2006.

Take notice that on April 7, 2006, the Public Service Commission of New York, the Pennsylvania Public Utility Commission, and the Pennsylvania Office of Consumer Advocate (collectively, Joint State Agencies) filed a complaint against National Fuel Gas Supply Corporation (NFG), pursuant to sections 5(a) and 13 of the Natural Gas Act, 15 U.S.C. 717(a) and 7171, and Rule 206 of Commission's Rules of Practice and Procedure, alleging that NFG's existing rates are unjust and unreasonable and asking the Commission to determine and set the just and reasonable rates NFG shall be authorized to charge prospectively.

The Joint State Agencies certify that copies of the complaint were served on contacts for NFG, affected regulatory agencies and other parties that Joint State Agencies know may be affected.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 27, 2006.

Magalie R. Salas,
Secretary.

[FR Doc. E6-5614 Filed 4-14-06; 8:45 am]

BILLING CODE 6717-01-P